DEPARTMENT OF TRANSPORTATION

Federal Aviation Administration

Notice of Intent To Rule on a Request To Release Surplus Property at the Greenwood County Airport, Greenwood, SC

AGENCY: Federal Aviation Administration (FAA), DOT.

ACTION: Notice and request for comment.

SUMMARY: Notice is being given that the Federal Aviation Administration (FAA) is considering a request from Greenwood County to waive the requirement that 13.254 acres of surplus property located at the Greenwood County Airport be used for aeronautical purposes. Currently, the ownership of the property provides for the protection of FAR Part 77 surfaces and compatible land use which would continue to be protected with deed restrictions required in the transfer of land ownership.

DATES: Comments must be received on or before June 22, 2018.

ADDRESSES: Comments on this application may be mailed or delivered to the FAA at the following address: Rob Rau, Federal Aviation Administration, Atlanta Airports District Office, 1701 Columbia Ave., Ste. 220, College Park, GA 30337.

In addition, one copy of any comments submitted to the FAA must be mailed or delivered to: Toby Chappell, County Manager, Greenwood County, Park Plaza 102, 600 Monument Street, Box P-103, Greenwood, SC 29646.

FOR FURTHER INFORMATION CONTACT: Rob Rau, Federal Aviation Administration, Atlanta Airports District Office, 1701 Columbia Ave., Ste. 220, College Park, GA 30337, robert.rau@faa.gov. The request to release property may be reviewed, by appointment, in person at this same location.

SUPPLEMENTARY INFORMATION: The FAA is reviewing a request to release 13.254 acres of surplus property at the Greenwood County Airport (GRD) under the provisions of 49 U.S.C. 47151(d).

On May 2, 2018, Greenwood County requested the FAA release of 13.254 acres of surplus property for commercial/industrial development. The FAA has determined that the proposed property release at Greenwood County Airport (GRD), as submitted by Greenwood County, meets the procedural requirements of the Federal Aviation Administration and release of the property does not and will not impact future aviation needs at the airport. The FAA may approve the request, in whole or in part, no sooner than thirty days after the publication of this notice. In accordance with 49 U.S.C. 47107(c)(2)(B)(i) and (iii), the airport will receive fair market value for the property, which will be subsequently reinvested in another eligible airport improvement project for aviation facilities at the Greenwood County Airport.

Any person may inspect, by appointment, the request in person at the FAA office listed above under FOR FURTHER INFORMATION CONTACT. In addition, any person may, upon appointment and request, inspect the application, notice and other documents determined by the FAA to be related to the application in person at the Greenwood County Airport.

Issued in Atlanta, GA, on May 16, 2018.
Aimee McCormick,
Acting Manager, Atlanta Airports District Office.

[FR Doc. 2018-10953 Filed 5-22-18; 8:45 am]

BILLING CODE 4910-13-P